DEPARTMENT OF LABOR

Bureau of Labor Statistics

Labor Research Advisory Council; Notice of Meetings and Agenda

The fall meetings of committees of the Labor Research Advisory Council will be held on December 8, 9, 10, and 19, 2003. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, December 8, 2003

9:30 a.m.—Committee on Employment and Unemployment Statistics—Meeting Room 9

1. Report on impact of 2004 budget on Office of Employment and Unemployment Statistics programs, including Mass Layoff Statistics

2. Latest analysis on the divergence in measured employment change between the Current Population Statistics (CPS) and Current Employment Statistics (CES) surveys

3. Update on CPS development work:

a. efforts to develop labor force statistics for the disabled

b. developing model-based CPS estimates (to supplement more variable sample-based estimates) for small demographic groups

4. Report on new Business Employment Dynamics data released September 30

5. Topics for the next meeting

Tuesday, December 9, 2003

9:30 a.m.—Committee on Prices and Living Conditions—Meeting Room 9

1. Electronic data collection methods in the Consumer, Producer and International price programs

2. Treatment of the addition of fees to prices of some consumer items in the Consumer Price Index

3. Other business

4. Topics for the next meeting

1:30 p.m.—Committee on Compensation and Working Conditions—Meeting Room 9

1. Changes in Classification Systems—issues and plans

a. Industry classification

b. Occupational classification

c. Area classification (reflecting results of the 2000 census)

2. Employee Benefit Data from National Compensation Survey—Review of recently released information and plans for additional outputs

3. Other topics and new business identified by the members

4. Topics for the next meeting

Wednesday, December 10, 2003

1:30 p.m.—Committee on Productivity, Technology and Growth—Meeting Room 9

1. Status of the Occupational Statistics and Employment Projections programs

2. Perspectives on issues important to the 2002-2012 projections

3. Wage calculation in the Occupational Employment Survey compared to Current Population Survey earnings data

4. Trends in productivity and hours in non-farm business and manufacturing since 2001

5. Recent developments in the industry productivity program; newly released industry productivity data on a North American Industry Classification System (NAICS) basis; new multifactor productivity measure for Airlines

6. Topics for the next meeting

Committee on Foreign Labor Statistics—Meeting Room 9

1. Study of family structure and employment patterns for 12 developed countries

2. Recent activities of the Division of International Technical Cooperation

3. Topics for the next meeting

Friday, December 19, 2003

1:30 p.m.—Committee on Occupational Safety and Health Statistics—Meeting Room 9

1. Results of the 2002 Census of Fatal Occupational Injuries

2. Survey of Occupational Injuries and Illnesses Update OSHA recordkeeping changes conversion to NAICS, Internet collection

3. New hours data for days away from work cases, including a review of what hours data would be available from the three States (Oregon, Washington, and Delaware) that use workers' compensation data

4. Special surveys on occupational safety and health issues

5. Fatal and nonfatal work injuries sustained by Hispanic agricultural workers

6. Topics for the next meeting

The meetings are open to the public. Persons planning to attend these meetings as observers may want to contact Wilhelmina Abner on 202-691-5970.

Signed at Washington, DC, this 5th day of November, 2003.
Kathleen P. Utgoff,
Commissioner.

[FR Doc. 03-28406 Filed 11-12-03; 8:45 am]

BILLING CODE 4510-24-P